DEPARTMENT OF DEFENSE

Office of the Secretary

Renewal of Department of Defense Federal Advisory Committees

AGENCY: DoD.

ACTION: Re-establishment of Federal Advisory Committee.

SUMMARY: Under the provisions of 10 U.S.C § 1746, the Federal Advisory Committee Act of 1972 (5 U.S.C. Appendix), the Government in the Sunshine Act of 1976 (5 U.S.C. 552b), and 41 CFR 102-3.50(c), the Department of Defense gives notice that it is re-establishing the charter for the Defense Acquisition University Board of Visitors (hereafter referred to as “the Board”). The Defense Acquisition University Board of Visitors, pursuant to 41 CFR 102-3.50(a), is a non-discretionary Federal advisory committee established to provide the Secretary of Defense through the through the Under Secretary of Defense for Acquisition, Technology and Logistics, and the President of the Defense Acquisition University, independent advice and recommendations on organization management, curricula, methods of instruction, facilities, and other matters of interest to the Defense Acquisition University.

The Under Secretary of Defense for Acquisition, Technology and Logistics or a designated representative may act upon the Board's advice and recommendations.

The Board shall be composed of not more than 14 members, who are former senior Defense officials, or are eminent authorities in academia, business, and defense industry. Board members shall be appointed by the Secretary of Defense, and their appointments will be renewed on an annual basis. Board members, who are not full-time or permanent part-time federal officers or employees, shall be appointed as experts and consultants under the authority of 5 U.S.C. 3109, and serve as special government employees.

Board members appointed by the Secretary of Defense, who are not full-time or permanent part-time federal employees, shall be appointed to serve as experts and consultants under the authority of 5 U.S.C. 3109 and shall serve as special government employee members. With the exception of travel and per diem for official Board related travel, Board members shall serve without compensation.

The Under Secretary of Defense for Acquisition, Technology and Logistics shall select the Board's Chairperson from the total Board membership, and this individual shall serve at the discretion of the Secretary of Defense, through the Under Secretary of Defense for Acquisition, Technology and Logistics.

In addition, the Under Secretary of Defense for Acquisition, Technology and Logistics, may invite other distinguished Government officers to serve as non-voting observers of the Board, and appoint, pursuant to 5 U.S.C. 3109, non-voting consultants, with special expertise, to assist the Board on an ad hoc basis.

The Secretary of Defense may approve the appointment of Board members for one to four year terms of service; however, no member, unless authorized by the Secretary of Defense, may serve more than two consecutive terms of service. This same term of service limitation also applies to any DoD authorized subcommittees.

Each Board member is appointed to provide advice on behalf of the government on the basis of his or her best judgment without representing any particular point of view and in a manner that is free from conflict of interest.

The Department, when necessary, and consistent with the Board's mission and DoD policies and procedures, may establish subcommittees deemed necessary to support the Board. Establishment of subcommittees will be based upon a written determination, to include terms of reference, by the Secretary of Defense, the Deputy Secretary of Defense, or the advisory committee's sponsor. Such subcommittees shall not work independently of the chartered Board, and shall report all their recommendations and advice to the Board for full deliberation and discussion. Subcommittees have no authority to make decisions on behalf of the chartered Board; nor can any subcommittee or its members update or report directly to the Department of Defense or any Federal officers or employees.

All subcommittee members shall be appointed in the same manner as the Board members; that is, the Secretary of Defense shall appoint subcommittee members even if the member in question is already a Board member. Subcommittee members, with the approval of the Secretary of Defense, may serve a term of service on the subcommittee of one to four years; however, no member shall serve more than two consecutive terms of service on the subcommittee. Subcommittee members, if not full-time or part-time government employees, shall be appointed to serve as experts and consultants under the authority of 5 U.S.C. 3109, and shall serve as special government employees, whose appointments must be renewed by the Secretary of Defense on an annual basis. With the exception of travel and per diem for official Board related travel, subcommittee members shall serve without compensation.

All subcommittees operate under the provisions of FACA, the Government in the Sunshine Act of 1976 (5 U.S.C. 552b), governing Federal statutes and regulations, and governing DoD policies/procedures.

FOR FURTHER INFORMATION CONTACT: Jim Freeman, Advisory Committee Management Officer for the Department of Defense, 703-692-5952.

SUPPLEMENTARY INFORMATION: The Board shall meet at the call of the Board's Designated Federal Officer, in consultation with the President of the Defense Acquisition University and the Board's Chairperson. The estimated number of Board meetings is three per year.

In addition, the Designated Federal Officer is required to be in attendance at all Board and subcommittee meetings for the entire duration of each and every meeting; however, in the absence of the Designated Federal Officer, a properly approved Alternate Designated Federal Officer shall attend the entire duration of the Board or subcommittee meeting. The Designated Federal Officer, or the Alternate Designated Federal Officer, shall call all of the Board's and subcommittees' meetings; prepare and approve all meeting agendas; adjourn any meeting when the Designated Federal Officer, or the Alternate Designated Federal Officer, determines adjournment to be in the public interest or required by governing regulations or DoD policies/procedures; and chair meetings when directed to do so by the official to whom the Board reports.

Pursuant to 41 CFR 102-3.105(j) and 102-3.140, the public or interested organizations may submit written statements to Defense Acquisition University Board of Visitors' membership about the Board's mission and functions. Written statements may be submitted at any time or in response to the stated agenda of planned meeting of Defense Acquisition University Board of Visitors.

All written statements shall be submitted to the Designated Federal Officer for the Defense Acquisition University Board of Visitors, and this individual will ensure that the written statements are provided to the membership for their consideration. Contact information for the Defense Acquisition University Board of Visitors Designated Federal Officer can be obtained from the GSA's FACA Database— https://www.fido.gov/facadatabase/public.asp. The Designated Federal Officer, pursuant to 41 CFR 102-3.150, will announce planned meetings of the Defense Acquisition University Board of Visitors. The Designated Federal Officer, at that time, may provide additional guidance on the submission of written statements that are in response to the stated agenda for the planned meeting in question.

Dated: April 10, 2012.
Aaron Siegel,
Alternate OSD Federal Register Liaison Officer, Department of Defense.

[FR Doc. 2012-8940 Filed 4-12-12; 8:45 am]

BILLING CODE 5001-06-P